DEPARTMENT OF TRANSPORTATION

Federal Highway Administration

Notice of Final Federal Agency Actions of Proposed Highway in California

AGENCY: Federal Highway Administration (FHWA), DOT.

ACTION: Notice of Limitation on Claims for Judicial Review of Actions by the California Department of Transportation (Caltrans).

SUMMARY: The FHWA, on behalf of Caltrans, is issuing this notice to announce actions taken by Caltrans that are final. The actions relate to a proposed highway project, about 12 miles north of the community of Bridgeport, along 3.13 miles of U.S. Highway 395 in Mono County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 27, 2017. If the Federal law that authorizes judicial review of a claim provides a time period of less than 150 days for filing such claim, then that shorter time period still applies.

FOR FURTHER INFORMATION CONTACT: For Caltrans: Angela Calloway, Office Chief, District 9 Environmental; Caltrans District 9; 500 S. Main St., Bishop, CA 93514; 8 a.m.-5 p.m.; (760) 872-2424; Angie.calloway@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans, U.S. Army Corps of Engineers and U.S. Forest Service have taken final agency actions subject to 23 U.S.C. 139(l)(1) by issuing licenses, permits, and approvals for the following highway project in the State of California: The project proposes to widen the paved shoulders from 2 to 3 feet to 8 feet on U.S. Highway 395 (U.S. 395) in Mono County, north of the community of Bridgeport, near Sonora Junction, from 0.3 mile north of Devil's Gate Summit (post mile 88.42) to Burcham Flat Road (post mile 91.55). In addition, the existing curve between post miles 91.25 and 91.55 (Lemus Curve) has a nonstandard radius and super elevation rate. There were no actions taken by any Federal agencies. The Final Environmental Assessment (EA) for the project, and Caltrans' Finding of No Significant Impact (FONSI), was approved and issued on May 3, 2017. The EA, FONSI, and other project records are available by contacting Caltrans at the address provided above. The Caltrans EA and FONSI can also be viewed and downloaded from the Internet at: http://www.dot.ca.gov/d9/projects/aspenfales/index.html.

This notice applies to all Federal agency decisions as of the issuance date of this notice and all laws under which such actions were taken, including but not limited to:

1. Council on Environmental Quality regulations (40 CFR 1500 et seq.; 23 CFR 771);

2. National Environmental Policy Act (NEPA) (42 U.S.C. 4321-4351 et seq.);

3. Moving Ahead for Progress in the 21st Century Act (MAP-21, Pub. L. 112-141);

4. Clean Air Act of 1963, as amended (42 U.S.C. 7401 et seq.);

5. Noise Control Act of 1979 (42 U.S.C. 4901 et seq.);

6. FHWA Noise Standards, Policies, and Procedures (23 CFR 772);

7. Department of Transportation Act of 1966, Section 4(f) (49 U.S.C. 303);

8. Clean Water Act of 1977 and 1987 (33 U.S.C. 1344);

9. Endangered Species Act of 1973 (16 U.S.C. 1531-1543);

10. Migratory Bird Treaty Act (16 U.S.C. 703-712);

11. National Historic Preservation Act of 1966, as amended (54 U.S.C. 306108 et seq.);

12. Executive Order 11990, Protection of Wetlands;

13. Executive Order 11988, Floodplain Management;

14. Executive Order 13112, Invasive Species;

15. Executive Order 12898, Federal Actions to Address Environmental Justice and Low-Income Populations;

16. Title VI of Civil Rights Act 1964 (42 U.S.C. 2000d et seq.), as amended.

(Catalog of Federal Domestic Assistance Program Number 20.205, Highway Planning and Construction. The regulations implementing Executive Order 12372 regarding intergovernmental consultation on Federal programs and activities apply to this program.)

Authority: 23 U.S.C. 139(l)(1).

Issued on: June 16, 2017.
Larry Vinzant,
Senior Environmental Specialist, Federal Highway Administration, Sacramento, California.

[FR Doc. 2017-13507 Filed 6-27-17; 8:45 am]

BILLING CODE 4910-RY-P